FEDERAL MARITIME COMMISSION

Ocean Transportation Intermediary License; Revocations

The Federal Maritime Commission hereby gives notice that the following ocean transportation intermediary licenses have been revoked pursuant to section 19 of the Shipping Act of 1984 (46 U.S.C. app. 1718) and the regulations of the Commission pertaining to the licensing of Ocean Transportation Intermediaries, effective on the corresponding dates shown below:

License Number: 14829N

Name: Alkahest Logistics, Inc.

Address: 40 South 1st Street, New Hyde Park, NY 11040

Date Revoked: January 10, 2001.

Reason: Surrendered license voluntarily.

License Number: 14701N

Name: August Jackson International, Inc.

Address: 8311 Pat Blvd., Tampa, FL 33615

Date Revoked: January 18, 2001.

Reason: Failed to maintain a valid bond.

License Number: 15917N

Name: Golden Jet-L.A., Inc. d/b/a Golden Jet Freight Forwarders

Address: 12333 S. Van Ness, Suite #201, Hawthorne, CA 90250

Date Revoked: January 14, 2001.

Reason: Failed to maintain a valid bond.

License Number: 14502N

Name: Hudson Transport Line Inc.

Address: 200 Livingston Avenue, New Brunswick, NJ 08901

Date Revoked: January 3, 2001.

Reason: Failed to maintain a valid bond.

License Number: 4065F

Name: Lynx International, Inc.

Address: 1942 Shawnee Road

Date Revoked: January 18, 2001.

Reason: Surrendered license voluntarily.

License Number: 15693N

Name: Mega Transport, Inc.

Address: 11222 S. La Cienega Blvd., Suite 620, Inglewood, CA 90304

Date Revoked: January 26, 2001.

Reason: Failed to maintain a valid bond.

License Number: 4067F

Name: Summit Trade Specialists (U.S.), Inc.

Address: 4621 Gruman Drive, Medford, OR 97504

Date Revoked: January 10, 2001.

Reason: Surrendered license voluntarily.

License Number: 16562N

Name: U.S. Brokers (BOS) Inc.

Address: 331-333 Northern Avenue, Boston, MA 02210

Date Revoked: January 18, 2001.

Reason: Failed to maintain a valid bond.

Ronald D. Murphy,
Deputy Director, Bureau of Consumer Complaints and Licensing.

[FR Doc. 01-4882 Filed 2-27-01; 8:45 am]

BILLING CODE 6730-01-P